FEDERAL COMMUNICATIONS COMMISSION

[GN Docket No. 18-122; DA 20-609; FRS 16871]

Order Denying Stay Petition

AGENCY: Federal Communications Commission.

ACTION: Notice.

SUMMARY: In this document, the Federal Communications Commission (Commission) denies the Joint Petition for Stay of Report and Order and Order of Proposed Modification Pending Judicial Review of ABS Global Ltd., Empresa Argentina de Soluciones Satelitales S.A., and Hispamar Satélites S.A., and Hispasat S.A.

DATES: The Order Denying Stay Petition (DA 20-609) was released on June 10, 2020.

ADDRESSES: Federal Communications Commission, 445 12th Street SW, Washington, DC 20554.

FOR FURTHER INFORMATION CONTACT: Anna Gentry of the Wireless Telecommunications Bureau, Mobility Division, at (202) 418-7769 or Anna.Gentry@fcc.gov.

SUPPLEMENTARY INFORMATION: This is a summary of the Order Denying Stay Petition (DA 20-609) released on June 10, 2020. The complete text of the Order is available for viewing via the Commission's ECFS website by entering the docket number, GN Docket No. 18-122. The complete text of the Order is also available for public inspection and copying from 8:00 a.m. to 4:30 p.m. Eastern Time (ET) Monday through Thursday or from 8:00 a.m. to 11:30 a.m. ET on Fridays in the FCC Reference Information Center, 445 12th Street SW, Room CY-B402, Washington, DC 20554, telephone 202-488-5300, fax 202-488-5563, or you may contact BCPI at its website: http://www.BCPIWEB.com. When ordering documents from BCPI, please provide the appropriate FCC document number, for example, DA 20-609.

Synopsis

On May 15, 2020, ABS Global Ltd., Empresa Argentina de Soluciones Satelitales S.A., and Hispamar Satélites S.A., and Hispasat S.A. filed a Joint Petition for Stay Pending Judicial Review of the Commission's Report and Order and Order of Proposed Modification in the above-captioned proceeding. Petitioners asked the Commission to stay the C-band auction and transition process while their challenges to the 3.7 GHz Report and Order are pending before the United States Court of Appeals for the District of Columbia. In their Stay Petition, Petitioners argue that the 3.7 GHz Report and Order will trigger a chain of events—beginning with the May 29, 2020 election by eligible space station operators to relocate on an accelerated basis—that may be irreversible and that will harm them by benefiting competing space station operators that are eligible for relocation and accelerated relocation payments and depriving them of spectrum access rights without compensation. They argue that the Commission exceeded its authority to modify their spectrum access rights, allocated too much money available to certain space station incumbents in the form of accelerated relocation payments and reimbursement of relocation costs associated with new satellites, and arbitrarily excluded Petitioners from receiving any relocation payments.

The Commission denies the Stay Petition. First, Petitioners have not shown that they will suffer irreparable harm. The harm that Petitioners allege is not imminent, is conjectural, and consists of economic injuries that are not severe enough to be cognizable as irreparable harm. Second, Petitioners have not shown a likelihood of success on the merits. The Commission addressed Petitioners' principal arguments at length in the 3.7 GHz Report and Order. The Stay Petition does not persuade the Commission that the Petitioners' arguments are likely to succeed in court any more than they did before the agency. Third, Petitioners have not shown that the equities favor a stay. Petitioners have not met their burden of showing that the public interest militates in favor of a stay and that others would not be harmed by a stay. Moreover, Petitioners have not shown that the public interest would favor grant of the stay. The Commission's actions to repurpose the C-band are an indispensable element of its overall strategy of promoting the deployment of fifth generation (5G) wireless services, with millions of jobs, and billions of dollars in economic growth and other public benefits, at stake. Grant of a stay pending judicial review would significantly delay the auction and transition process and harm multiple stakeholders, including prospective bidders and the diverse incumbents involved in the transition process. The cost of such delay and disruption could be enormous. In addition to the public interest harms, grant of a stay would undercut the specific goal of U.S. leadership in 5G and the general goals of the auction program. Accordingly, we conclude that a stay of the Order and Order and Proposed Modification Pending Judicial Review is not warranted.

Federal Communications Commission.
Amy Brett,
Associate Division Chief, Competition and Infrastructure Policy Division, Wireless Telecommunications Bureau.

[FR Doc. 2020-13314 Filed 6-19-20; 8:45 am]

BILLING CODE 6712-01-P